DEPARTMENT OF ENERGY

Federal Energy Regulatory Commission

Combined Notice of Filings #1

June 21, 2010.

Take notice that the Commission received the following electric corporate filings:

Docket Numbers: EC10-75-000.

Applicants: ITC Midwest LLC, Northern States Power Company (Minnesota).

Description: FPA 203 Joint Application of ITC MW and NSPM.

Filed Date: 06/18/2010.

Accession Number: 20100618-5167.

Comment Date: 5 p.m. Eastern Time on Friday, July 9, 2010.

Take notice that the Commission received the following electric rate filings:

Docket Numbers: ER07-412-005; ER06-745-005; ER09-1099-004; ER10-1089-001; ER10-1383-001; ER99-1714-009.

Applicants: ECP Energy I, LLC; MASSPOWER; Empire Generating Co, LLC; EquiPower Resources Management, LLC; Dighton Power, LLC; Lake Road Generating Company, L.P.

Description: Dighton Power, LLC et al. notifies the Commission of a non-material change in status.

Filed Date: 06/18/2010.

Accession Number: 20100621-0205.

Comment Date: 5 p.m. Eastern Time on Friday, July 9, 2010.

Docket Numbers: ER09-1063-004.

Applicants: PJM Interconnection L.L.C.

Description: PJM Interconnection, LLC submits proposed package of reforms to establish just and reasonable pricing for operative reserve shortages in the PJM Region.

Filed Date: 06/18/2010.

Accession Number: 20100621-0201.

Comment Date: 5 p.m. Eastern Time on Friday, July 9, 2010.

Docket Numbers: ER10-1251-001.

Applicants: Midwest Independent Transmission System Operator, Inc.

Description: Midwest Independent Transmission System Operator, Inc. submits an amendment to its previous filing on 5/14/10 etc.

Filed Date: 06/18/2010.

Accession Number: 20100618-0209.

Comment Date: 5 p.m. Eastern Time on Friday, July 9, 2010.

Docket Numbers: ER10-1480-000.

Applicants: Portland General Electric Company.

Description: Portland General Electric Company submits modifications to their Open Access Transmission tariff.

Filed Date: 06/18/2010.

Accession Number: 20100618-0207.

Comment Date: 5 p.m. Eastern Time on Friday, July 9, 2010.

Docket Numbers: ER10-1481-000.

Applicants: PJM Interconnection, L.L.C.

Description: PJM Interconnection, LLC submits Request for Limited Tariff waiver.

Filed Date: 06/18/2010.

Accession Number: 20100618-0206.

Comment Date: 5 p.m. Eastern Time on Friday, July 9, 2010.

Docket Numbers: ER10-1482-000.

Applicants: Wildorado Wind, LLC.

Description: Wildorado Wind, LLC et al. submits an Assignment, Cotenancy and Common Facilities Agreement etc.

Filed Date: 06/17/2010.

Accession Number: 20100621-0206.

Comment Date: 5 p.m. Eastern Time on Thursday, July 8, 2010.

Docket Numbers: ER10-1483-000.

Applicants: Dominion Energy Kewaunee, Inc.

Description: Dominion Energy Kewaunee, Inc. submits tariff filing per 35.12: Baseline to be effective 6/30/2010.

Filed Date: 06/18/2010.

Accession Number: 20100618-5081.

Comment Date: 5 p.m. Eastern Time on Friday, July 9, 2010.

Docket Numbers: ER10-1484-000.

Applicants: Shell Energy North America (US), L.P.

Description: Shell Energy North America (US), L.P. submits tariff filing per 35.12: Shell Energy North America (US), L.P. Market-Based Rate Tariff to be effective 6/18/2010.

Filed Date: 06/18/2010.

Accession Number: 20100618-5119.

Comment Date: 5 p.m. Eastern Time on Friday, July 9, 2010.

Docket Numbers: ER10-1485-000.

Applicants: Midwest Independent Transmission System Operator, Inc.

Description: Midwest Independent Transmission System Operator, Inc. submits proposed amendment to Module E of its Open Access Transmission, Energy and Operating Reserve Markets Tariff.

Filed Date: 06/18/2010.

Accession Number: 20100621-0207.

Comment Date: 5 p.m. Eastern Time on Friday, July 9, 2010.

Docket Numbers: ER10-1486-000.

Applicants: Forward Energy LLC.

Description: Forward Energy LLC submits tariff filing per 35.12: Initial Baseline Filing to be effective 6/21/2010.

Filed Date: 06/21/2010.

Accession Number: 20100621-5036.

Comment Date: 5 p.m. Eastern Time on Monday, July 12, 2010.

Docket Numbers: ER10-1487-000.

Applicants: Willow Creek Energy LLC.

Description: Willow Creek Energy LLC submits tariff filing per 35.12: Initial Baseline Filing to be effective 6/21/2010.

Filed Date: 06/21/2010.

Accession Number: 20100621-5038.

Comment Date: 5 p.m. Eastern Time on Monday, July 12, 2010.

Docket Numbers: ER10-1488-000.

Applicants: Sheldon Energy LLC.

Description: Sheldon Energy LLC submits tariff filing per 35.12: Initial Baseline Tariff to be effective 6/21/2010.

Filed Date: 06/21/2010.

Accession Number: 20100621-5039.

Comment Date: 5 p.m. Eastern Time on Monday, July 12, 2010.

Docket Numbers: ER10-1489-000.

Applicants: Grand Ridge Energy LLC.

Description: Grand Ridge Energy LLC submits tariff filing per 35.12: Initial Baseline Tariff to be effective 6/21/2010.

Filed Date: 06/21/2010.

Accession Number: 20100621-5040.

Comment Date: 5 p.m. Eastern Time on Monday, July 12, 2010.

Docket Numbers: ER10-1490-000.

Applicants: Grand Ridge Energy II LLC.

Description: Grand Ridge Energy II LLC submits tariff filing per 35.12: Initial Baseline Tariff to be effective 6/21/2010.

Filed Date: 06/21/2010.

Accession Number: 20100621-5041.

Comment Date: 5 p.m. Eastern Time on Monday, July 12, 2010.

Docket Numbers: ER10-1491-000.

Applicants: Grand Ridge Energy III LLC.

Description: Grand Ridge Energy III LLC submits tariff filing per 35.12: Initial Baseline Filing to be effective 6/21/2010.

Filed Date: 06/21/2010.

Accession Number: 20100621-5042.

Comment Date: 5 p.m. Eastern Time on Monday, July 12, 2010.

Docket Numbers: ER10-1492-000.

Applicants: Midwest ISO and Midwest ISO Transmission.

Description: Midwest Independent Transmission System Operator, Inc et al. submits Open Access Transmission and Energy Markets Tariff but takes no position on the substance of the filing itself.

Filed Date: 06/18/2010.

Accession Number: 20100621-0204.

Comment Date: 5 p.m. Eastern Time on Friday, July 9, 2010.

Docket Numbers: ER10-1493-000.

Applicants: West Penn Power Company.

Description: Alleghany Power submits Interconnection Agreement with Duquesne Light Company dated 6/18/10 and designated as Original Service Agreement No 2532 under the FERC Electric Tariff, Sixth Revised Volume 1 to be effective 8/17/10.

Filed Date: 06/18/2010.

Accession Number: 20100621-0203.

Comment Date: 5 p.m. Eastern Time on Friday, July 9, 2010.

Docket Numbers: ER10-1494-000.

Applicants: Otter Tail Power Company.

Description: Otter Tail Power Company submits an unexecuted version of a Transmission Capacity Exchange Agreement, FERC Electric Tariff, Rate Schedule No 10.

Filed Date: 06/18/2010.

Accession Number: 20100621-0202.

Comment Date: 5 p.m. Eastern Time on Friday, July 9, 2010.

Docket Numbers: ER10-1495-000.

Applicants: Grand Ridge Energy IV LLC.

Description: Grand Ridge Energy IV LLC submits tariff filing per 35.12: Initial Baseline Filing to be effective 6/21/2010.

Filed Date: 06/21/2010.

Accession Number: 20100621-5059.

Comment Date: 5 p.m. Eastern Time on Monday, July 12, 2010.

Docket Numbers: ER10-1496-000.

Applicants: Grand Ridge Energy V LLC.

Description: Grand Ridge Energy V LLC submits tariff filing per 35.12: Initial Baseline Filing to be effective 6/21/2010.

Filed Date: 06/21/2010.

Accession Number: 20100621-5060.

Comment Date: 5 p.m. Eastern Time on Monday, July 12, 2010.

Docket Numbers: ER10-1497-000.

Applicants: Spring Canyon Energy LLC.

Description: Spring Canyon Energy LLC submits tariff filing per 35.12: Initial Baseline Filing to be effective 6/21/2010.

Filed Date: 06/21/2010.

Accession Number: 20100621-5061.

Comment Date: 5 p.m. Eastern Time on Monday, July 12, 2010.

Docket Numbers: ER10-1498-000.

Applicants: Judith Gap Energy LLC.

Description: Judith Gap Energy LLC submits tariff filing per 35.12: Initial Baseline Filing to be effective 6/21/2010.

Filed Date: 06/21/2010.

Accession Number: 20100621-5062.

Comment Date: 5 p.m. Eastern Time on Monday, July 12, 2010.

Docket Numbers: ER10-1499-000.

Applicants: Invenergy TN LLC.

Description: Invenergy TN LLC submits tariff filing per 35.12: Initial Baseline Filing to be effective 6/21/2010.

Filed Date: 06/21/2010.

Accession Number: 20100621-5063.

Comment Date: 5 p.m. Eastern Time on Monday, July 12, 2010.

Docket Numbers: ER10-1500-000.

Applicants: Grays Harbor Energy LLC.

Description: Grays Harbor Energy LLC submits tariff filing per 35.12: Initial Baseline Filing to be effective 6/21/2010.

Filed Date: 06/21/2010.

Accession Number: 20100621-5064.

Comment Date: 5 p.m. Eastern Time on Monday, July 12, 2010.

Docket Numbers: ER10-1501-000.

Applicants: Hardee Power Partners Limited.

Description: Hardee Power Partners Limited submits tariff filing per 35.12: Initial Baseline Filing to be effective 6/21/2010.

Filed Date: 06/21/2010.

Accession Number: 20100621-5065.

Comment Date: 5 p.m. Eastern Time on Monday, July 12, 2010.

Docket Numbers: ER10-1502-000.

Applicants: Spindle Hill Energy LLC.

Description: Spindle Hill Energy LLC submits tariff filing per 35.12: Initial Baseline Filing to be effective 6/21/2010.

Filed Date: 06/21/2010.

Accession Number: 20100621-5066.

Comment Date: 5 p.m. Eastern Time on Monday, July 12, 2010.

Docket Numbers: ER10-1503-000.

Applicants: Invenergy Cannon Falls LLC.

Description: Invenergy Cannon Falls LLC submits tariff filing per 35.12: Initial Baseline Filing to be effective 6/21/2010.

Filed Date: 06/21/2010.

Accession Number: 20100621-5067.

Comment Date: 5 p.m. Eastern Time on Monday, July 12, 2010.

Docket Numbers: ER10-1504-000.

Applicants: Beech Ridge Energy LLC.

Description: Beech Ridge Energy LLC submits tariff filing per 35.12: Initial Baseline Filing to be effective 6/21/2010.

Filed Date: 06/21/2010.

Accession Number: 20100621-5068.

Comment Date: 5 p.m. Eastern Time on Monday, July 12, 2010.

Docket Numbers: ER10-1505-000.

Applicants: Public Service Company of New Mexico.

Description: Public Service Company of New Mexico submits a transmission service agreement with NextEra Energy Resources, LLC.

Filed Date: 06/21/2010.

Accession Number: 20100621-0210.

Comment Date: 5 p.m. Eastern Time on Monday, July 12, 2010.

Docket Numbers: ER10-1506-000.

Applicants: Wolverine Creek Energy LLC.

Description: Wolverine Creek Energy LLC submits tariff filing per 35.12: Initial Baseline Filing to be effective 6/21/2010.

Filed Date: 06/21/2010.

Accession Number: 20100621-5078.

Comment Date: 5 p.m. Eastern Time on Monday, July 12, 2010.

Docket Numbers: ER10-1507-000.

Applicants: New York Independent System Operator Inc, Niagara Mohawk Power Corporation.

Description: Joint Filing Parties submits an executed Standard Large Generator Interconnection Agreement.

Filed Date: 06/21/2010.

Accession Number: 20100621-0211.

Comment Date: 5 p.m. Eastern Time on Monday, July 12, 2010.

Docket Numbers: ER10-1508-000.

Applicants: Tampa Electric Company.

Description: Tampa Electric Company submits tariff filing per 35.12: Baseline-OATT to be effective 6/21/2010.

Filed Date: 06/21/2010.

Accession Number: 20100621-5097.

Comment Date: 5 p.m. Eastern Time on Monday, July 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-15738 Filed 6-28-10; 8:45 am]

BILLING CODE 6717-01-P